DEPARTMENT OF HOMELAND SECURITY

Coast Guard

[Docket No. USCG-2018-0792]

Information Collection Request to Office of Management and Budget; OMB Control Number: 1625-0035

Correction

In notice document 2018-19326 appearing on pages 45267-45268 in the issue of September 6, 2018, make the following correction:

On page 45267, in the first column, the subject heading is corrected to read as set forth above.

[FR Doc. C1-2018-19326 Filed 9-7-18; 8:45 am]

BILLING CODE 1301-00-D